DEPARTMENT OF COMMERCE

Bureau of Industry and Security

[Docket No. 04-BIS-14]

Action Affecting Export Privileges; Sunford Trading, Ltd.; In the Matter of: Sunford Trading Ltd., Room 2208, 22/F, 118 Connaught Road West, Hong Kong, China, Respondent; Order Relating to Sunford Trading, Ltd.

The Bureau of Industry and Security, U.S. Department of Commerce (“BIS”) has initiated an administrative proceeding against Sunford Trading, Ltd. (“Sunford”) pursuant to Section 766.3 of the Export Administration Regulations (currently codified at 15 CFR parts 730-774 (2005)) (“Regulations”),¹ and Section 13(c) of the Export Administration Act of 1979, as amended (50 U.S.C. app. 2401-2420 (2000)) (“Act”),² through issuance of a charging letter to Sunford that alleged that Sunford committed three violations of the Regulations. Specifically, the charges are:

¹ The violations charged occurred during 1999. The Regulations governing the violations at issue are found in the 1999 version of the Code of Federal Regulations (15 CFR parts 730-774 (1999)). The 2005 Regulations establish the procedures that apply to this matter.

² From August 21, 1994 through November 12, 2000, the Act was in lapse. During that period, the President, through Executive Order 12924, which had been extended by successive Presidential Notices, the last of which was August 3, 2000 (3 CFR, 2000 Comp. 397 (2001)), continued the Regulations in effect under the International Emergency Economic Powers Act (50 U.S.C. 1701-1706 (2000)) (“IEEPA”). On November 13, 2000, the Act was reauthorized and it remained in effect through August 20, 2001. Since August 21, 2001, the Act has been in lapse and the President, through Executive Order 13222 of August 17, 2001 (3 CFR, 2001 Comp. 783 (2002)), as extended by the Notice of August 6, 2004 (69 FR 48763, August 10, 2004), has continued the Regulations in effect under the IEEPA.

1. One violation of 15 CFR 764.2(e)—Ordering, Buying, Financing, and/or Forwarding Items to China With the Knowledge That a Violation of the Regulations Will Occur. Beginning on or about November 23, 1998 and continuing to on or about July 20, 1999, Sunford ordered, bought, financed, and/or forwarded an industrial hot press furnace to the Beijing Research Institute of Materials and Technology (hereinafter, “BRIMT”) in China with knowledge that a violation of the Regulations would occur. Specifically, at the time Sunford ordered, bought, financed, and/or forwarded the furnace, it knew or had reason to know that a Department of Commerce license was required for export to BRIMT under Section 744.3 of the Regulations, and that such license would not be obtained.

2. One violation of 15 CFR 764.2(d)—Conspiring To Export an Industrial Furnace to China Without the Required U.S. Government Authorization. Beginning on or about November 23, 1998 and continuing to on or about July 20, 1999, Sunford conspired or acted in concert with others, known and unknown, to bring about acts that constituted a violation of the Regulations when it agreed to participate in the export of the furnace referenced above to BRIMT in China without the Department of Commerce license required by Section 744.3 of the Regulations. In furtherance of the conspiracy, Sunford and its co-conspirators agreed to conceal the identity of the actual end-user and of the item being exported in an attempt to circumvent the license requirement described in Section 744.3 of the Regulations.

3. One violation of 15 CFR 764.2(b)—Causing an Export to China Without the Required Department of Commerce License. Beginning on or about November 23, 1998 and continuing to on or about July 20, 1999, Sunford caused the export of the furnace described above to BRIMT in China without the required Department of Commerce license. Specifically, Sunford ordered, bought, financed, and/or forwarded the industrial furnace described above, thereby causing the furnace to be exported to BRIMT in China despite the fact that the Department of Commerce license required by Section 744.3 of the Regulations had not been obtained.

Whereas, BIS and Sunford have entered into a Settlement Agreement pursuant to Section 766.18(b) of the Regulations whereby they agreed to settle this matter in accordance with the terms and conditions set forth therein, and

Whereas I have approved of the terms of such Settlement Agreement;

It is therefore ordered:

First, that a civil penalty of $33,000 is assessed against Sunford, which shall be paid to the U.S. Department of Commerce within 30 days from the date of entry of this Order. Payment shall be made in the manner specified in the attached instructions.

Second, that, pursuant to the Debt Collection Act of 1982, as amended (31 U.S.C. 3701-3720E (2000)), the civil penalty owed under this Order accrues interest as more fully described in the attached Notice, and, if payment is not made by the due date specified herein, Sunford will be assessed, in addition to the full amount of the civil penalty and interest, a penalty charge and an administrative charge, as more fully described in the attached Notice.

Third, that the timely payment of the civil penalty set forth above is hereby made a condition to the granting, restoration, or continuing validity of any export license, license exception, permission, or privilege granted, or to be granted, to Sunford, Accordingly, if Sunford should fail to pay the civil penalty in a timely manner, the undersigned may enter an Order denying all of Sunford's export privileges for a period of one year from the date of entry of this Order.

Fourth, for a period of three years from the date of entry of the Order, Sunford Trading, Ltd., Room 2208, 22/F, 118 Connaught Road West, Hong Kong, China, its successors or assigns, and when acting for or on behalf of Sunford, its officers, representatives, agents, or employees (“Denied Person”) may not participate, directly or indirectly, in any way in any transaction involving any commodity, software or technology (hereinafter collectively referred to as “item”) exported or to be exported from the United States that is subject to the Regulations, or in any other activity subject to the Regulations, including, but not limited to:

A. Applying for, obtaining or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefitting in any way from any transaction involving any item exported or to be exported from the United States that is subject to the Regulations, or in any other activity subject to the Regulations.

Fifth, that no person may, directly or indirectly, do any of the following:

A. Export or reexport to or on behalf of the Denied Person any item subject to the Regulations;

B. Take any action that facilitates the acquisition or attempted acquisition by the Denied Person of the ownership, possession, or control of any item subject to the Regulations that has been or will be exported from the United States, including financing or other support activities related to a transaction whereby the Denied Person acquires or attempts to acquire such ownership, possession or control;

C. Take any action to acquire from or to facilitate the acquisition or attempted acquisition from the Denied Person of any item subject to the Regulations that has been exported from the United States;

D. Obtain from the Denied Person in the United States any item subject to the Regulations with knowledge or reason to know that the item will be, or is intended to be, exported from the United States; or

E. Engage in any transaction to service any item subject to the Regulations that has been or will be exported from the United States and which is owned, possessed or controlled by the Denied Person, or service any item, of whatever origin, that is owned, possessed or controlled by the Denied Person if such service involves the use of any item subject to the Regulations that has been or will be exported from the United States. For purposes of this paragraph, servicing means installation, maintenance, repair, modification or testing.

Sixth, that, to prevent evasion of this Order, BIS, after notice and opportunity for comment as provided in Section 766.23 of the Regulations, may make any person, firm, corporation, or business organization related to Sunford by affiliation, ownership, control, or position of responsibility in the conduct of trade or related services subject to the provisions of this Order.

Seventh, that this Order does not prohibit any export, reexport, or other transaction subject to the Regulations where the only items involved that are subject to the Regulations are the foreign-produced direct product of U.S.-origin technology.

Eighth, that the charging letter, the Settlement Agreement, this Order, and the record of this case as defined by Section 766.20 of the Regulations shall be made available to the public.

Ninth, that the administrative law judge shall be notified that this case is withdrawn from adjudication.

This Order, which constitutes the final agency action in this matter, is effective upon publication in the Federal Register.

Entered this 18th day of August 2005.
Wendy Wysong,
Acting Assistant Secretary of Commerce for Export Enforcement.

[FR Doc. 05-16885 Filed 8-24-05; 8:45 am]

BILLING CODE 3510-DT-M